DEPARTMENT OF HEALTH AND HUMAN SERVICES

Centers for Disease Control and Prevention

[30-Day-15-14LA]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies' estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Annual Survey of Colorectal Cancer Control Activities Conducted by States and Tribal Organizations—New—National Center for Chronic Disease Prevention and Health Promotion (NCCDPHP), Centers for Disease Control and Prevention (CDC).

Background and Brief Description

In July 2009, the Centers for Disease Control and Prevention's (CDC's) Division of Cancer Prevention and Control, National Center for Chronic Disease Prevention and Health Promotion, funded the Colorectal Cancer Control Program (CRCCP) for a 5-year period. The purpose of the CRCCP is to promote colorectal cancer (CRC) screening to increase population-level screening rates to 80% and, subsequently, to reduce CRC incidence and mortality. The current awardees are 25 states and 4 tribal organizations.

The CRCCP includes two program components: (1) CRC screening of low-income, uninsured and underinsured people (screening provision) and (2) implementation of interventions to increase population-level screening rates (screening promotion).

As a comprehensive, organized screening program, the CRCCP supports activities including program management, partnership development, public education and targeted outreach, screening and diagnostic services, patient navigation, quality assurance and quality improvement, professional development, data management and utilization, and program monitoring and evaluation. For clinical service delivery, grantees fund health care providers in their state/territory/tribe to deliver colorectal cancer screening, diagnostic evaluation, and treatment referrals for those diagnosed with cancer.

An annual survey of CRCCP grantees was fielded from 2011-2013 through the Cancer Prevention and Control Research Network. The survey was found to be useful by CDC and the grantees (which received feedback reports). For example, after the each survey administration, CDC was able to tailor sessions at the Program Director's meeting to the needs of grantees that had been expressed during last year's information collection. DCPC has decided to continue the data collection, and is being supported through the National Association of Chronic Disease Directors. CDC's proposed survey builds on previous information collections conducted from 2011-2013 through the CPCRN.

Questions are of various types including dichotomous and multiple response. All information is to be collected electronically through the web-based survey. The estimated burden per response is 75 minutes.

This assessment will enable CDC to gauge its progress in meeting CRCCP program goals, identify implementation activities, monitor program transition to efforts aimed at impacting population-based screening, identify technical assistance needs of state, tribe and territorial health department cancer control programs, and identify implementation models with potential to expand and transition to new settings to increase program impact and reach. The assessment will identify successful activities that should be maintained, replicated, or expanded as well as provide insight into areas that need improvement.

OMB approval is requested for three years. Participation is voluntary for CRCCP awardees and there are no costs to respondents other than their time. The total estimated annualized burden hours are 36.

Estimated Annualized Burden Hours
Type of respondents | Form name | Number of respondents | Number of responses per respondent | Average burden per response (in hrs.)
Colorectal Cancer Control Program Directors or Managers | Colorectal Cancer Control Program (CRCCP) Grantee Survey of Program Implementation | 29 | 1 | 75/60

Leroy A. Richardson,
Chief, Information Collection Review Office, Office of Scientific Integrity, Office of the Associate Director for Science, Office of the Director, Centers for Disease Control and Prevention.

[FR Doc. 2015-05211 Filed 3-5-15; 8:45 am]

BILLING CODE 4163-18-P